DEPARTMENT OF HOUSING AND URBAN DEVELOPMENT

[Docket No. FR-5750-N-52]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Air Force: Mr. Robert E. Moriarty, P.E., AFCEC/CI, 2261 Hughes Avenue, Ste. 155, JBSA Lackland, TX 78236-9853; Army: Ms. Veronica Rines, Office of the Assistant Chief of Staff for Installation Management, Department of Army, Room 5A128, 600 Army Pentagon, Washington, DC 20310, (571) 256-8145; Commerce: Ms. Linda Steward, Department of Commerce, Office of Real Estate, 1401 Constitution Ave. NW., Room 1036, Washington, DC 20230, (202) 482-1770; Coast Guard: Commandant, United States Coast Guard, Attn: Jennifer Stomber, 2703 Martin Luther King Jr. Ave. SE., Stop 7714, Washington, DC 20593; (202) 475-5609; GSA: Mr. Flavio Peres, General Services Administration, Office of Real Property Utilization and Disposal, 1800 F Street NW., Room 7040, Washington, DC 20405, (202) 501-0084; Navy: Mr. Steve Matteo, Department of the Navy, Asset Management Division, Naval Facilities Engineering Command, Washington Navy Yard, 1330 Patterson Ave. SW., Suite 1000, Washington, DC 20374, (202) 685-9426 (These are not toll-free numbers).

Dated: December 15, 2014.
Brian P. Fitzmaurice,
Director, Division of Community Assistance, Office of Special Needs Assistance Programs.

Title V, Federal Surplus Property Program Federal Register Report for 12/24/2014

Suitable/Available Properties

Building

Ohio

Glenn Research Center-

Plumbrook Station: Big Island Plumbing

Station; 6100 Columbus Ave.

Sandusky OH 44870

Landholding Agency: GSA

Property Number: 54201440014

Status: Excess

GSA Number: 1-Z-OH-0598-3-AC

Directions: Landholding Agency: NASA; Disposal Agency: GSA

Comments: Off-site removal only; 3,756 sq. ft.; 24+ months vacant; may be difficult to relocate due to size/type; contact GSA for more information

South Dakota

9201

Ellsworth AFB

9201 Lincoln

Ellsworth SD 57706

Landholding Agency: Air Force

Property Number: 18201440033

Status: Underutilized

Comments: 3,619 sq. ft.; security forces training facility; 1+ yr. vacant; very poor conditions; high noise levels; contact Air Force for more information

Land

Ohio

Glenn Research Center-

Plumbrook Station: Parcel #63

6100 Columbus Ave.

Sandusky OH 44870

Landholding Agency: GSA

Property Number: 54201440012

Status: Excess

GSA Number: 1-Z-OH-0598-5-AE

Directions: Landholding Agency: NASA; Disposal Agency: GSA

Comments: 11.5 acres; contamination; various illegally dumped solid waste items (e.g., lead acid batteries, oil filters & containers, & gas cylinders); contact GSA for more information

Unsuitable Properties

Building

California

3 Buildings

1001 S. Seaside Ave.

Long Beach CA 90731

Landholding Agency: Coast Guard

Property Number: 88201440003

Status: Excess

Directions: 37; 39; 49

Comments: Public access denied and no alternative method to gain access without compromising national security

Reasons: Secured Area

Guam

Building 25006

Anderson AFB

Anderson GU 96543

Landholding Agency: Navy

Property Number: 77201440025

Status: Excess

Comments: Public access denied and no alternative method to gain access without compromising national security

Reasons: Secured Area

Indiana

00796

3005 Ferguson Rd.

Ft. Wayne IN 46809

Landholding Agency: Air Force

Property Number: 18201440034

Status: Unutilized

Comments: Public access denied and no alternative method to gain access without compromising national security

Reasons: Secured Area

Indiana

Middle Creek Access Site

State Road 111

New Albany IN 47150

Landholding Agency: GSA

Property Number: 54201440011

Status: Excess

GSA Number: 1-D-IN-606-2

Directions: Landholding Agency: COE; Disposal Agency: GSA

Comments: Entire property located within a floodway which has not been corrected or contained

Reasons: Floodway

Maryland

#308

100 Bureau Dr.

Gaithersburg MD

Landholding Agency: Commerce

Property Number: 27201440001

Status: Unutilized

Comments: Documented deficiencies: significant water damage; severe mold infestation throughout property; ceiling falling; clear threat to physical safety

Reasons: Extensive deterioration

Michigan

Building 951

Selfridge ANGB

Selfridge MI 48045

Landholding Agency: Air Force

Property Number: 18201440035

Status: Unutilized

Comments: Public access denied and no alternative method to gain access without compromising national security

Reasons: Secured Area

Texas

2 Buildings

Air Force Plant 4

Ft. Worth TX

Landholding Agency: Air Force

Property Number: 18201440032

Status: Underutilized

Directions: 86; 150

Comments: Public access denied and no alternative method to gain access without compromising national security

Reasons: Secured Area

4 Buildings

Fort Hood

Ft. Hood TX 76544

Landholding Agency: Army

Property Number: 21201440061

Status: Unutilized

Directions: 36019; 36027; 36028; 36043

Comments: Public access denied and no alternative method to gain access without compromising national security

Reasons: Secured Area

Wisconsin

Vanderveen Barn; Infra. #332

N15484 Shady Knoll Road

Park Falls WI 54552

Landholding Agency: Agriculture

Property Number: 15201440009

Status: Unutilized

Comments: Documented deficiencies: dilapidated; sections of missing/collapsing; clear threat to physical safety

Reasons: Extensive deterioration

Land

Ohio

Glenn Research Center-

Plumbrook Station: Parcel #4

6100 Columbus Ave.

Sandusky OH 44870

Landholding Agency: GSA

Property Number: 54201440013

Status: Excess

GSA Number: 1-Z-OH-0598-4-AD

Directions: Landholding Agency: NASA; Disposal Agency: GSA

Comments: Landlocked; can only be reached by crossing private property & there is no established right or means of entry

Reasons: Not accessible by road

[FR Doc. 2014-29681 Filed 12-23-14; 8:45 am]

BILLING CODE 4210-67-P